DEPARTMENT OF COMMERCE

National Oceanic and Atmospheric Administration

Proposed Information Collection; Comment Request; StormReady™, TsunamiReady™ and StormReady/TsunamiReady™ Application Forms

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 30, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Donna Franklin, (301) 713-0090 x141 or donna.franklin@noaa.gov.

SUPPLEMENTARY INFORMATION:

I. Abstract

This request is for revision of a currently approved information collection. The StormReady Program, like the TsunamiReady and StormReady/TsunamiReady programs also in this information collection, is a voluntary program offered to provide guidance and incentive to officials who wish to improve their hazardous weather operations, e.g. community preparedness and local warning dissemination. Applicants fill out a detailed application that demonstrates how they meet certain guidelines that qualify them for StormReady recognition. The full StormReady recognition is not appropriate for all entities, yet they should still be recognized for their efforts in preparing for hazardous weather. To this end, the National Weather Service created the StormReady Supporter program. StormReady Supporter is a voluntary program offered to provide guidance and incentive to entities, such as local hospitals or businesses, who wish to improve their respective hazardous weather preparations. Entities will use the application to apply for a one-time StormReady Supporter recognition. The government will use the application form to determine whether an entity has met the guidelines for a StormReady Supporter recognition.

II. Method of Collection

Applications will be submitted on paper (faxed or mailed) or electronically.

III. Data

OMB Control Number: 0648-0419.

Form Number: None.

Type of Review: Regular submission (revision of a currently approved information collection).

Affected Public: Non-profit institutions; business or other for-profit organizations.

Estimated Number of Respondents: 270 (30 for new form).

Estimated Time per Response: 1 hour.

Estimated Total Annual Burden Hours: 510 (30 for new form).

Estimated Total Annual Cost to Public: $123 ($15 for new form).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 27, 2011.
Gwellnar Banks,
Management Analyst, Office of the Chief Information Officer.

[FR Doc. 2011-16523 Filed 6-30-11; 8:45 am]

BILLING CODE 3510-KE-P